DEPARTMENT OF ENERGY

Federal Energy Regulatory Commission

Combined Notice of Filings #1

Take notice that the Commission received the following electric corporate filings:

Docket Numbers: EC25-57-000.

Applicants: TPG Rise Climate TI DE AIV GenPar Advisors, LLC, Altus Power, Inc.

Description: Joint Application for Authorization Under Section 203 of the Federal Power Act of Altus Power, Inc., et al.

Filed Date: 2/20/25.

Accession Number: 20250220-5148.

Comment Date: 5 p.m. ET 3/13/25.

Take notice that the Commission received the following exempt wholesale generator filings:

Docket Numbers: EG25-163-000.

Applicants: Sequoia Renewables LLC.

Description: Sequoia Renewables LLC submits Notice of Self-Certification of Exempt Wholesale Generator Status.

Filed Date: 2/20/25.

Accession Number: 20250220-5151.

Comment Date: 5 p.m. ET 3/13/25.

Docket Numbers: EG25-164-000.

Applicants: Luna Valley Storage LLC.

Description: Luna Valley Storage LLC submits Notice of Self-Certification of Exempt Wholesale Generator Status.

Filed Date: 2/20/25.

Accession Number: 20250220-5152.

Comment Date: 5 p.m. ET 3/13/25.

Docket Numbers: EG25-165-000.

Applicants: Luna Valley Solar I, LLC.

Description: Luna Valley Solar I, LLC submits Notice of Self-Certification of Exempt Wholesale Generator Status.

Filed Date: 2/20/25.

Accession Number: 20250220-5153.

Comment Date: 5 p.m. ET 3/13/25.

Take notice that the Commission received the following electric rate filings:

Docket Numbers: ER21-588-001; ER18-1155-001.

Applicants: Summer Energy Northeast, LLC, Horizon Power and Light, LLC.

Description: Notice of Non-Material Change in Status of Horizon Power and Light LLC, et al.

Filed Date: 2/20/25.

Accession Number: 20250220-5150.

Comment Date: 5 p.m. ET 3/13/25.

Docket Numbers: ER25-1103-001.

Applicants: Indianapolis Power & Light Company.

Description: Tariff Amendment: 2025-02-21_Amendment for IPL dba AES Transition to Forward Looking Formula Rate to be effective 4/1/2025.

Filed Date: 2/21/25.

Accession Number: 20250221-5070.

Comment Date: 5 p.m. ET 3/14/25.

Docket Numbers: ER25-1357-000.

Applicants: PJM Interconnection, L.L.C.

Description: § 205(d) Rate Filing: Revised Price Cap and Price Floor for the 26/27 and 27/28 Delivery Years to be effective 3/31/2025.

Filed Date: 2/20/25.

Accession Number: 20250220-5122.

Comment Date: 5 p.m. ET 3/13/25.

Docket Numbers: ER25-1358-000.

Applicants: PJM Interconnection, L.L.C.

Description: § 205(d) Rate Filing: Original GIA & CSA, SA Nos. 7548 & 7549; Project Identifier No. AG1-512 to be effective 1/21/2025.

Filed Date: 2/20/25.

Accession Number: 20250220-5127.

Comment Date: 5 p.m. ET 3/13/25.

Docket Numbers: ER25-1359-000.

Applicants: Luna Valley Solar I, LLC.

Description: Initial rate filing: Market-Based Rate Application and Request for Waivers and Blanket Approvals to be effective 4/22/2025.

Filed Date: 2/20/25.

Accession Number: 20250220-5128.

Comment Date: 5 p.m. ET 3/13/25.

Docket Numbers: ER25-1361-000.

Applicants: Ratts 2 Solar LLC.

Description: Request for Limited and Prospective Waiver, or in the Alternative for Remedial Relief of Ratts 2 Solar LLC.

Filed Date: 2/20/25.

Accession Number: 20250220-5154.

Comment Date: 5 p.m. ET 3/13/25.

Docket Numbers: ER25-1362-000.

Applicants: Northern Indiana Public Service Company LLC.

Description: § 205(d) Rate Filing: Knox Supplement to WVPA IA to be effective 2/21/2025.

Filed Date: 2/21/25.

Accession Number: 20250221-5021.

Comment Date: 5 p.m. ET 3/14/25.

Docket Numbers: ER25-1363-000.

Applicants: Midcontinent Independent System Operator, Inc.

Description: § 205(d) Rate Filing: 2025-02-21_SA 3605 Termination of OTP-CPEC FCA (WAPA Jamestown) to be effective 2/22/2025.

Filed Date: 2/21/25.

Accession Number: 20250221-5046.

Comment Date: 5 p.m. ET 3/14/25.

Docket Numbers: ER25-1364-000.

Applicants: PJM Interconnection, L.L.C.

Description: § 205(d) Rate Filing: Amendment to ISA, Service Agreement No. 6007; AD2-115 to be effective 4/23/2025.

Filed Date: 2/21/25.

Accession Number: 20250221-5063.

Comment Date: 5 p.m. ET 3/14/25.

Docket Numbers: ER25-1365-000.

Applicants: Grand Ridge Energy V LLC.

Description: Tariff Amendment: Notice of Cancellation of Market-Based Rate Tariff to be effective 3/31/2025.

Filed Date: 2/21/25.

Accession Number: 20250221-5071.

Comment Date: 5 p.m. ET 3/14/25.

Docket Numbers: ER25-1366-000.

Applicants: Duke Energy Florida, LLC.

Description: § 205(d) Rate Filing: DEF-GRU Rate Schedule No. 88 to be effective 5/1/2025.

Filed Date: 2/21/25.

Accession Number: 20250221-5083.

Comment Date: 5 p.m. ET 3/14/25.

Docket Numbers: ER25-1367-000.

Applicants: PJM Interconnection, L.L.C.

Description: § 205(d) Rate Filing: GIA, SA No. 7554; PI AF1-188/AG1-486; Cancellation ISA, SA 5687; Queue AF1-188 to be effective 1/23/2025.

Filed Date: 2/21/25.

Accession Number: 20250221-5086.

Comment Date: 5 p.m. ET 3/14/25.

Docket Numbers: ER25-1369-000.

Applicants: PJM Interconnection, L.L.C.

Description: § 205(d) Rate Filing: Original GIA, Service Agreement No. 7551; AG1-365 to be effective 1/22/2025.

Filed Date: 2/21/25.

Accession Number: 20250221-5100.

Comment Date: 5 p.m. ET 3/14/25.

Docket Numbers: ER25-1370-000.

Applicants: Duke Energy Indiana, LLC.

Description: Tariff Amendment: DEI-Hardy Hills Notice of Termination of RS No. 281 to be effective 4/23/2025.

Filed Date: 2/21/25.

Accession Number: 20250221-5138.

Comment Date: 5 p.m. ET 3/14/25.

Docket Numbers: ER25-1371-000.

Applicants: PJM Interconnection, L.L.C.

Description: § 205(d) Rate Filing: Original GIA Service Agreement No. 7550; Project Identifier No. AF2-224 to be effective 1/23/2025.

Filed Date: 2/21/25.

Accession Number: 20250221-5142.

Comment Date: 5 p.m. ET 3/14/25.

Docket Numbers: ER25-1372-000.

Applicants: Southwest Power Pool, Inc.

Description: § 205(d) Rate Filing: Markets+ Phase 2 Funding Agreement to be effective 3/24/2025.

Filed Date: 2/21/25.

Accession Number: 20250221-5145.

Comment Date: 5 p.m. ET 3/14/25.

Docket Numbers: ER25-1373-000.

Applicants: Reworld REC, LLC.

Description: Compliance filing: Tariff Amendment Compliance Filing to be effective 1/22/2025.

Filed Date: 2/21/25.

Accession Number: 20250221-5152.

Comment Date: 5 p.m. ET 3/14/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 21, 2025.
Carlos D. Clay,
Deputy Secretary.

[FR Doc. 2025-03186 Filed 2-26-25; 8:45 am]

BILLING CODE 6717-01-P